ENVIRONMENTAL PROTECTION AGENCY

[FRL-8041-1]

Good Neighbor Environmental Board

AGENCY: Environmental Protection Agency (EPA).

ACTION: Notice of meeting.

SUMMARY: Under the Federal Advisory Committee Act, P.L. 92463, EPA gives notice of a meeting of the Good Neighbor Environmental Board. The Board meets three times each calendar year at different locations along the U.S.-Mexico border and in Washington, DC. It was created by the Enterprise for the Americas Initiative Act of 1992. An Executive Order delegates implementing authority to the Administrator of EPA. The Board is responsible for providing advice to the President and the Congress on environmental and infrastructure issues and needs within the States contiguous to Mexico in order to improve the quality of life of persons residing on the United States side of the border. The statute calls for the Board to have representatives from U.S. Government agencies; the governments of the States of Arizona, California, New Mexico and Texas; and private organizations with expertise on environmental and infrastructure problems along the southwest border. The purpose of the meeting is to discuss the recommendations of the Board's 9th Report on Air Quality and Transportation and Cultural and Natural Resources. The Board will also hear from speakers about the topic of its next report: Balancing Border Security and Environmental Protection. A copy of the meeting agenda will be posted at http://www.epa.gov/ocem/gneb.

DATES: The Good Neighbor Environmental Board will hold an open meeting on Tuesday, March 14, from 9 a.m. (registration at 8:30 a.m.) to 5:30 p.m.

ADDRESSES: The meeting will be held at the Doubletree Hotel, Terrace Ballroom, 1515 Rhode Island Avenue, NW., Washington, DC. Telephone: 202-232-7000. The meeting is open to the public, with limited seating on a first-come, first-served basis.

FOR FURTHER INFORMATION CONTACT: Elaine Koerner, Designated Federal Officer, koerner.elaine@epa.gov, 202-233-0069, U.S. EPA, Office of Cooperative Environmental Management (1601E), 1200 Pennsylvania Avenue, NW., Washington, DC 20460.

SUPPLEMENTARY INFORMATION: Requests to make brief oral comments or provide written statements to the Board should be sent to Elaine Koerner, Designated Federal Officer, at the contact information above.

Meeting Access: For information on access or services for individuals with disabilities, please contact Elaine Koerner at 202-233-0069 or koerner.elaine@epa.gov. To request accommodation of a disability, please contact Elaine Koerner, preferably at least 10 days prior to the meeting, to give EPA as much time as possible to process your request.

Dated: February 22, 2006.
Elaine Koerner,
Designated Federal Officer.

[FR Doc. E6-3152 Filed 3-6-06; 8:45 am]

BILLING CODE 6560-50-P